DEPARTMENT OF EDUCATION

Notice of Proposed Information Collection Requests

AGENCY: Department of Education.

ACTION: Correction notice extension of comment period.

SUMMARY: On October 8, 2002, the Department of Education published a 30-day public comment period notice in the Federal Register (67 FR 62701) for the information collection, “National College Alcohol, Drug and Violence Survey.” Because of a network connectivity error the contents of http://edicsweb.ed.gov were not updated to reflect the materials submitted to OMB. The Leader, Regulatory Management, Office of the Chief Information Officer, sincerely apologies for any inconveniences caused by this error and hereby re-opens and extends the public comment period through December 26, 2002.

Written requests for information should be addressed to Vivian Reese, Department of Education, 400 Maryland Avenue, SW., Room 4050, Regional Office Building 3, Washington, DC 20202-4651 or to the e-mail address Vivian.reese@ed.gov. Requests may also be faxed to 202-708-9346. Please specify the complete title of the information collection when making your request. Comments regarding burden and/or the collection activity requirements should be directed to Katrina Ingalls at Katrina.ingalls@ed.gov. Individuals who use a telecommunications device for the deaf (TDD) may call the Federal Information Relay Service (FIRS) at 1-800-877-8339.

FOR FURTHER INFORMATION CONTACT: Katrina Ingalls at her e-mail address Katrina.ingalls@ed.gov

Dated: November 20, 2002.
John D. Tressler,
Leader, Regulatory Management Group, Office of the Chief Information Officer.

[FR Doc. 02-29940 Filed 11-25-02; 8:45 am]

BILLING CODE 4000-01-P